DEPARTMENT OF THE TREASURY

Office of Thrift Supervision

[AC-18: OTS Nos. 01348 and H-4210]

Bradford Bank, Baltimore, MD, and Bradford Bancorp, Inc., Baltimore, MD; Approval of Conversion Application

Notice is hereby given that on October 19, 2007, the Office of Thrift Supervision approved the application of Bradford Bank, Baltimore, Maryland, to convert to the stock form of organization. Copies of the application are available for inspection by appointment (phone number: 202-906-5922 or e-mail: Public.Info@OTS.Treas.gov) at the Public Reading Room, 1700 G Street, NW., Washington, DC 20552, and the OTS Southeast Regional Office, 1475 Peachtree Street, NE., Atlanta, Georgia 30309.

Dated: October 19, 2007.
By the Office of Thrift Supervision.
Sandra E. Evans,
Federal Register Liaison Officer.

[FR Doc. 07-5281 Filed 10-24-07; 8:45 am]

BILLING CODE 6720-01-M